ENVIRONMENTAL PROTECTION AGENCY

40 CFR Part 180

[EPA-HQ-OPP-2021-0516; FRL 13148-01-OCSPP]

Chlorate; Exemption From the Requirement of a Pesticide Tolerance

AGENCY: Environmental Protection Agency (EPA).

ACTION: Final rule.

SUMMARY: This regulation establishes an exemption from the requirement of a tolerance for residues of chlorate (CAS Reg. No. 7775-09-9) in or on several food commodities. Under the Federal Food, Drug, and Cosmetic Act (FFDCA), TriNova LLC submitted a petition to EPA requesting an exemption from the requirement of a tolerance. This regulation eliminates the need to establish a maximum permissible level for residues of this pesticide when used in accordance with the terms of the exemption.

DATES: This rule is effective on January 30, 2026. Objections and requests for hearings must be received on or before March 31, 2026, and must be filed in accordance with the instructions provided in 40 CFR part 178 (see also Unit I.C. of this document).

ADDRESSES: The docket for this action, identified by docket identification (ID) number EPA-HQ-OPP-2021-0516, is available online at https://www.regulations.gov. Additional information about dockets generally, along with instructions for visiting the docket center in person, is available at https://www.epa.gov/dockets.

FOR FURTHER INFORMATION CONTACT: Kristen Willis, Antimicrobials Division (7510M), Office of Pesticide Programs, Environmental Protection Agency, 1200 Pennsylvania Ave. NW, Washington, DC 20460-0001; main telephone number: 202-566-0793; email address: ADFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

B. What is EPA's authority for taking this action?

EPA is issuing this rulemaking under section 408 of the Federal Food, Drug, and Cosmetic Act (FFDCA), 21 U.S.C. 346a. FFDCA section 408(c)(2)(A)(i) allows EPA to establish an exemption from the requirement for a tolerance (the legal limit for a pesticide chemical residue in or on a food) only if EPA determines that the exemption is “safe.” FFDCA section 408(c)(2)(A)(ii) defines “safe” to mean that “there is a reasonable certainty that no harm will result from aggregate exposure to the pesticide chemical residue, including all anticipated dietary exposures and all other exposures for which there is reliable information.” This includes exposure through drinking water and in residential settings but does not include occupational exposure. Pursuant to FFDCA section 408(c)(2)(B), in establishing or maintaining in effect an exemption from the requirement of a tolerance, EPA must take into account the factors set forth in FFDCA section 408(b)(2)(C), which require EPA to give special consideration to exposure of infants and children to the pesticide chemical residue in establishing a tolerance and to “ensure that there is a reasonable certainty that no harm will result to infants and children from aggregate exposure to the pesticide chemical residue . . . .” Additionally, FFDCA section 408(b)(2)(D) requires that the Agency consider, among other things, “available information concerning the cumulative effects of a particular pesticide's residues” and “other substances that have a common mechanism of toxicity.”

C. How can I file an objection or hearing request?

Under FFDCA section 408(g), 21 U.S.C. 346a(g), any person may file an objection to any aspect of this regulation and may also request a hearing on those objections. If you fail to file an objection to the final rule within the time period specified in the final rule, you will have waived the right to raise any issues resolved in the final rule. You must file your objection or request a hearing on this regulation in accordance with the instructions provided in 40 CFR part 178. To ensure proper receipt by EPA, you must identify the docket ID number EPA-HQ-OPP-2021-0516 in the subject line on the first page of your submission. All objections and requests for a hearing must be in writing and must be received by the Hearing Clerk on or before March 31, 2026.

EPA's Office of Administrative Law Judges (OALJ), in which the Hearing Clerk is housed, urges parties to file and serve documents by electronic means only, notwithstanding any other particular requirements set forth in other procedural rules governing those proceedings. See “Revised Order Urging Electronic Filing and Service,” dated June 22, 2023, which can be found at https://www.epa.gov/system/files/documents/2023-06/2023-06-22%20%20revised%20order%20urging%20electronic%20filing%20and%20service.pdf. Although EPA's regulations require submission via U.S. Mail or hand delivery, EPA intends to treat submissions filed via electronic means as properly filed submissions; therefore, EPA believes the preference for submission via electronic means will not be prejudicial. When submitting documents to the OALJ electronically, a person should utilize the OALJ e-filing system at https://yosemite.epa.gov/oa/eab/eab-alj_upload.nsf.

In addition to filing an objection or hearing request with the Hearing Clerk as described in 40 CFR part 178, please submit a copy of the filing (excluding any Confidential Business Information (CBI)) for inclusion in the public docket at https://www.regulations.gov. Follow the online instructions for submitting comments. Do not submit electronically any information you consider to be CBI or other information whose disclosure is restricted by statute. If you wish to include CBI in your request, please follow the applicable instructions at https://www.epa.gov/dockets/commenting-epa-dockets#rules and clearly mark the information that you claim to be CBI. Information not marked confidential pursuant to 40 CFR part 2 may be disclosed publicly by EPA without prior notice.

II. Summary of Petitioned-For Exemptions

In the Federal Register of January 13, 2025 (90 FR 2661) (FRL 11682-11-OCSPP), EPA issued a document pursuant to FFDCA section 408(d)(3), 21 U.S.C. 346a(d)(3), announcing the filing of a pesticide petition (PP 1F8916) by ICA TriNova LLC, 1 Beavers Street Suite B, Newman, GA 30263. The January 13, 2025 document superseded the Notice of Filing published on November 23, 2021 (86 FR 66152) (FRL 879-05-OCSPP) regarding PP 1F8916. The petition requested that 40 CFR 180.1364 be amended by expanding the exemption from the requirement of a tolerance for residues of chlorate to include the following crop groups: Crop Group 1 (root and tuber vegetables), Crop Group 3 (bulb vegetables, bulbs), Crop Group 8 (fruiting vegetables), Crop Group 9 (cucurbit vegetables), Crop Group 10 (citrus), Crop Group 11 (pome fruits), Crop Group 12 (stone fruits), Crop Group 13 (berries), Crop Group 14 (tree nuts), Crop Group 16 (forage, fodder, and straw of cereal grains), Crop Group 17 (grass forage, fodder, and hay), Crop Group 18 (non-grass animal feeds), Crop Group 21 (edible fungi), Crop Group 23 (tropical and subtropical fruits, edible peel), and Crop Group 24 (tropical and subtropical fruits, inedible peel). A summary in support of the petition is available in the docket (EPA-HQ-OPP-2021-0516), https://www.regulations.gov. Two public comments were received on the first Notice of Filing submitted on November 23, 2021, and one public comment was received on the Notice of Filing submitted on January 13, 2025, that superseded the November 23, 2021 Notice of Filing. The comment period for the November 13, 2021 Notice of Filing ended on December 23, 2021. The comment period for the January 13, 2025 Notice of Filing ended on February 12, 2025.

III. Final Tolerance Action

Consistent with FFDCA section 408(b)(2)(D), and the factors specified in FFDCA section 408(b)(2)(D), EPA has reviewed the available scientific data and other relevant information in support of this action. EPA has sufficient data to assess the hazards of and to make a determination on aggregate exposure for chlorate, including exposure resulting from the exemption established by this action. EPA's assessment of exposures and risks associated with chlorate follows.

In an effort to streamline its publications in the Federal Register, EPA is not reprinting sections that repeat what has been previously published for tolerance rulemaking of the same pesticide chemical. Where scientific information concerning a particular chemical remains unchanged, the content of those sections would not vary between tolerance rulemaking and republishing the same sections is unnecessary. EPA considers referral back to those sections as sufficient to provide an explanation of the information EPA considered in making its safety determination for the new rulemaking.

EPA previously published a tolerance rulemaking for chlorate on December 26, 2018, in which the Agency concluded that there is a reasonable certainty that no harm would result from aggregate exposure to chlorate and established exemptions for residues on tomatoes and cantaloupes. The publication of the rulemaking can be found at 83 FR 66138 (FRL-9986-85). EPA's assessment of safety in support of the 2018 rulemaking, Risk Assessment of Tomato and Cantaloupe Fumigation with Sodium Chlorite 3.2% (chlorine dioxide gas) (hereafter 2018 EPA Risk Assessment), is included in the docket for this current rulemaking, as it also supports this current rulemaking.

Since the time of the initial tolerance exemption, EPA has evaluated the potential for dietary exposures to chlorates in three different assessments: (1) an Agency memo that was signed on November 10, 2020, titled “Sodium Chlorate: Summary of Hazard and Science Policy Council (HASPOC) Meeting of October 15, 2020: Recommendations on Conducting a Qualitative Assessment of Chlorate and Waiving All Crop Chlorate Residue Data (hereafter “2020 EPA HASPOC memo”); (2) the Inorganic Chlorates Revised Draft Human Health Risk Assessment (DRA) in Support of Registration Review (hereafter “2021 EPA Revised DRA”), and (3) the 2022 crop expansion assessment titled Review of Petition, Residue Data Waiver, and Risk Assessment of 3.2% Sodium Chlorite (Chlorine Dioxide Gas) Fumigation for Crop Expansion (hereafter “2022 EPA Risk Assessment”), all of which are part of the docket for this current rulemaking. The Agency has concluded that there are no risks of concern from aggregate exposure to chlorate from currently registered uses. This conclusion is based on the following relevant conclusions from the three assessments mentioned above: (1) Chlorate residues in food are generally low and can be removed by washing, (2) aggregate exposure from food and drinking water were not of concern when quantitatively assessed in the 2018 EPA Risk Assessment; and (3) the main driver of the dietary assessment is from drinking water exposures from sanitation treatment.

A. Toxicological Profile and Points of Departure/Levels or Concern

Inorganic chlorates (also known as chlorate salts) encompass all chlorates, including sodium chlorate. As an antimicrobial pesticide, sodium chlorate (Pesticide Code (PC code) 073301) is used to generate a chlorine dioxide (PC Code 020503) solution in post-harvest applications to various crops. Sodium chlorate is also generated as a by-product of sodium chlorite (PC Code 020502) when it is used to generate chlorine dioxide for fumigation of crops post-harvest and during storage and shipment. Inorganic chlorates encompass all chlorates including the most abundant salt, sodium chlorate.

The toxicological profile for chlorate remains unchanged from the December 26, 2018 rulemaking and is available in the 2018 EPA Risk Assessment and the 2021 EPA Revised DRA. As discussed in the 2020 EPA HASPOC Memo, EPA conducted a qualitative assessment as part of the current tolerance action.

B. Exposure Assessment

1. Dietary exposure from food and drinking water. In support of the 2018 rulemaking, EPA performed a quantitative risk assessment on sodium chlorite at a 3.2% application rate as well as other uses with potential chlorate residue exposure (paper mill, drinking water, and conventional food uses). Based on the 2018 EPA Risk Assessment, the total dietary risks (including the use on tomatoes and cantaloupe, conventional herbicidal uses, paper mill dietary uses, and drinking water) are not of concern. The most highly exposed population was children 1-2 years of age which occupied 8.4% of the chronic population adjustment dose (cPAD) and was thus not of concern.

Following the 2018 EPA Risk Assessment and 2018 rulemaking, EPA determined that it would be more appropriate to assess the safety of chlorate tolerances with a qualitative dietary (food and drinking water) assessment for the reasons noted above (see “2021 EPA Revised DRA” and “2020 EPA HASPOC Memo”). The use of sodium chlorite on the additional crops at issue in this rule are not expected to meaningfully impact the previously assessed risk estimates, since residues can be washed off and the main driver of the dietary assessment is from drinking water exposures from sanitation treatment, which is not expected to change upon approval of these additional uses.

2. From non-dietary exposure. There are no residential (non-occupational) exposures associated with the new proposed uses and there are no registered uses of chlorate that result in non-occupational, residential exposure.

3. Cumulative effects from substances with a common mechanism of toxicity. EPA has not found inorganic chlorates to share a common mechanism of toxicity with any other substances, and sodium chlorate does not appear to produce a toxic metabolite produced by other substances. For a discussion, see Unit III (C)(4) of the December 26, 2018 rulemaking.

C. Safety Factor for Infants and Children

Section 408(b)(2)(C) of FFDCA provides that EPA shall apply an additional tenfold (10X) margin of safety for infants and children in the case of threshold effects to account for prenatal and postnatal toxicity and the completeness of the data base unless EPA concludes that a different margin of safety will be safe for infants and children. Because EPA is conducting a qualitative assessment without uncertainty factors, the additional 10X safety factor cannot be applied.

D. Aggregate Risks and Determination of Safety

In a quantitative risk assessment, EPA determines whether acute and chronic dietary pesticide exposures are safe by comparing aggregate exposure estimates to the acute PAD (aPAD) and chronic PAD (cPAD). For linear cancer risks, EPA calculates the lifetime probability of acquiring cancer given the estimated aggregate exposure. Short-, intermediate-, and chronic-term risks are evaluated by comparing the estimated aggregate food, water, and residential exposure to the appropriate PODs to ensure that an adequate Margin of Exposure (MOE) exists.

The 2022 EPA Risk Assessment in support of this action is based on the 2018 EPA Risk Assessment (e.g., drinking water, pulp mill, FruitGard dietary use, drinking water), the 2021 EPA Revised DRA, the 2020 EPA HASPOC memo, and the supportive materials submitted with this petition. That assessment evaluates the aggregate exposure from existing uses and the new proposed fumigation uses on the additional crop groups. EPA has determined that the fumigation of additional crops is not expected to meaningfully increase dietary (food or drinking water) exposures or risks of chlorate from the active ingredient sodium chlorite (chlorine dioxide). This is primarily because (1) residues on food are expected to be low, based on other residue studies indicating that use on food results in low residues and the fact that residues can be removed by washing; (2) the drinking water from water treatment systems is the primary source of exposure to chlorate, which would not change based on these additional crops; and (3) EPA's Risk Assessment 2018, which already accounted for the drinking water exposure and limited expectation of residues on food, found that the residues would be safe.

Given that the previous quantitative assessment indicated a very low risk estimate, EPA concludes that aggregate exposure would continue to be safe with these new exemptions. Therefore, EPA concludes that there is a reasonable certainty that no harm will result to the general population, or to infants and children from aggregate exposure to chlorate residues.

IV. Other Considerations

A. Analytical Enforcement Methodology

An analytical method is not required for enforcement purposes since the Agency is establishing an exemption from the requirement of a tolerance without any numerical limitation for residues of chlorate in or on the listed food commodities.

B. Response to Comments

Two public comments were received on the first Notice of Filing that was published on November 23, 2021 and one public comment was received on the Notice of Filing that was published on January 13, 2025 that superseded the November 23, 2021 Notice of Filing. The comment period for the November 23, 2021 Notice of Filing ended on December 23, 2021. The comment period for the January 13, 2025 revised Notice of Filing ended on February 12, 2025.

Two public comments were received in response to the Notice of Filing published on November 23, 2021 (located under the Docket ID EPA-HQ-OPP-2021-0516 at https://www.regulations.gov). The first comment was submitted by the United Fresh Produce Association supporting the expansion of crop groups for products containing the active ingredient sodium chlorite as a post-harvest application of gaseous chlorine dioxide. The Agency acknowledges the comment from United Fresh Produce Association and support for the expansion of crop groups for the active ingredient sodium chlorite. The second comment was submitted by a member of the general public, and raised issues related to the safety of the tolerance exemption in this action, including the potential for thyroid gland tumors and neurotoxic effects in the available toxicity database for sodium chlorate. Furthermore, the commenter noted that chlorate has been banned in the European Union due to concerns that chlorate can decrease iodine uptake, causing thyroid problems.

With regard to potential thyroid effects, EPA explained in the 2018 rulemaking (and supporting risk assessments) that while there was some evidence of thyroid gland tumors found in the drinking water study, EPA concluded that exposure to chlorate would not likely pose cancer risk because the Agency was regulating exposure at doses lower than the high doses required to induce tumors. See Chlorate; Pesticide Exemptions From Tolerance, 83 FR 66138, 66139 (FRL-9986-85, December 26, 2018). EPA conducted a quantitative assessment in which it concluded that risks would not exceed safe levels, (i.e., the levels at which no chronic nor carcinogenic effects would be expected) and thus there is no expectation that exposure to chlorate would result in cancer. In this rule, EPA has concluded that the additional uses will not meaningfully increase residues of chlorate on food, and thus there is similarly no expectation that exposure to chlorate would result in thyroid gland tumors.

The commenter (Docket ID EPA-HQ-OPP-2021-0516) also states that sodium chlorate has not been evaluated for neurotoxic effects. As discussed in the 2018 EPA Risk Assessment, neurotoxic effects were not observed in any of the available acute, subchronic, and reproduction toxicity studies. Therefore, the potential for neurotoxic effects is not a concern for chlorate.

Regarding the supporting materials provided by the commenter, it is unclear to the Agency what specific points the materials are meant to support. The Dobson (2002) citation is a publication from the International Programme on Chemical Safety (IPCS)—a cooperative program of the World Health Organization (WHO), the International Labour Organization (ILO), and the United Nations Environment Programme (UNEP). It is not a study; therefore, the results reported in the publication cannot be used to reassess EPA's toxicological endpoints. Furthermore, none of the Agency's risk assessments found risk levels of concern for humans for the currently registered pesticidal uses of sodium chlorate. The Trinetta et al. (2011) study cited concludes, “(c)hlorine dioxide technology leaves minimal to no detectable chemical residues in several food products, thus result in no significant risks to consumers.” Therefore, the Trinetta study seems to support the conclusions from the Agency's recent risk assessments (2021 EPA Revised DRA, 2022 EPA Risk Assessment).

Furthermore, the Agency acknowledges the commenter's concerns about environmental impacts, including potential toxicity to algae, but notes that this topic is not required for consideration for an EPA determination of safety under the FFDCA, which stipulates only that EPA consider human health risks.

There was one public comment that was received in response to the revised Notice of Filing submitted on January 13, 2025 (located under the Docket ID EPA-HQ-OPP-2021-0516 at https://www.regulations.gov), from a member of the general public, supported the expansion of crop groups for products containing the active ingredient sodium chlorite as a post-harvest application of gaseous chlorine dioxide. The Agency acknowledges the public commenter's submission in support of expanding the tolerance exemption to cover certain crop groups for the active ingredient sodium chlorite.

In conclusion, the public comments do not include any information that alters the Agency's conclusion regarding the safety of the chlorate tolerance exemption.

C. Revisions to Petitioned-For Tolerances

The petitioner requested tolerances on several crop groups that have been updated. Specifically, crop groups 3, 8, 10, 11, 12, 13, 14, and 16 have been updated. As stated in EPA's regulations (40 CFR 180.40(j)(4)), once the revised crop group is established, EPA will no longer establish tolerances under pre-existing crop groups. As such, EPA is establishing the requested tolerance exemptions with the updated crop groupings which are supported by the Agency's qualitative assessments.

V. Conclusion

Therefore, an exemption from the requirement of a tolerance is established for residues of chlorate in or on commodities in the following crop groups: Vegetable, root and tuber, group 1; Vegetable, bulb, group 3-07; Vegetable, fruiting, group 8-10; vegetable, cucurbit, group 9; Fruit, citrus, group 10-10; Fruit, pome, group 11-10; Fruit, stone, group 12-12; Berry and small fruit, group 13-07; Nut, tree, group 14-12; Grain, cereal, forage, hay, stover, and straw, group 16-22; Grass, forage, fodder and hay, group 17; Animal feed, nongrass, group 18; Fungi, edible, group 21; Fruit, tropical and subtropical, edible peel, group 23; and Fruit tropical and subtropical, inedible peed, group 24.

VI. Statutory and Executive Order Reviews

Additional information about these statutes and Executive Orders can be found at https://www.epa.gov/laws-regulations/and-executive-orders.

A. Executive Order 12866: Regulatory Planning and Review

This action is exempt from review under Executive Order 12866 (58 FR 51735, October 4, 1993), because it establishes or modifies a pesticide tolerance or a tolerance exemption under FFDCA section 408 in response to a petition submitted to the Agency. The Office of Management and Budget (OMB) has exempted these types of actions from review under Executive Order 12866.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

This action is not subject to the RFA, 5 U.S.C. 601 et seq. The RFA applies only to rules subject to notice and comment rulemaking requirements under the Administrative Procedure Act (APA), 5 U.S.C. 553, or any other statute. This rule is not subject to the APA but is subject to FFDCA section 408(d), which does not require notice and comment rulemaking to take this action in response to a petition.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local, or Tribal governments or the private sector.

F. Executive Order 13132: Federalism

This action does not have federalism implications as specified in Executive Order 13132 (64 FR 43255, August 10, 1999), because it will not have substantial direct effects on the States, on the relationship between the National Government and the States, or on the distribution of power and responsibilities among the various levels of government.

G. Executive Order 13175: Consultation and Coordination With Indian Tribal Governments

This action does not have Tribal implications as specified in Executive Order 13175 (65 FR 67249, November 9, 2000), because it will not have substantial direct effects on tribal governments, on the relationship between the Federal Government and the Indian Tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866, and because EPA does not believe the environmental health or safety risks addressed by this action present a disproportionate risk to children.

However, EPA's 2021 Policy on Children's Health applies to this action. This rule finalizes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific review documents, located in the applicable docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Environmental protection, Administrative practice and procedure, Agricultural commodities, Pesticides and pests, Reporting and recordkeeping requirements.

Dated: January 26, 2026.
Edward Messina,
Director, Office of Pesticide Programs.

Therefore, for the reasons stated in the preamble, EPA is amending 40 CFR chapter I is amended as follows:

PART 180—TOLERANCES AND EXEMPTIONS FOR PESTICIDE CHEMICAL RESIDUES IN FOOD

1. The authority citation for part 180 continues to read as follows:

Authority: 21 U.S.C. 321(q), 346a and 371.

2. Revise § 180.1364 to read as follows:

§ 180.1364 Chlorate; exemption from the requirement of a tolerance.

Residues of chlorate in or on commodities in the following crop groups are exempt from the requirement of a tolerance when resulting from the application of gaseous chlorine dioxide as a fungicide, bactericide, or antimicrobial pesticide: Vegetable, root and tuber, group 1; Vegetable, bulb, group 3-07; Vegetable, fruiting, group 8-10; vegetable, cucurbit, group 9; Fruit, citrus, group 10-10; Fruit, pome, group 11-10; Fruit, stone, group 12-12; Berry and small fruit, group 13-07; Nut, tree, group 14-12; Grain, cereal, forage, hay, stover, and straw, group 16-22; Grass, forage, fodder and hay, group 17; Animal feed, nongrass, group 18; Fungi, edible, group 21; Fruit, tropical and subtropical, edible peel, group 23; and Fruit tropical and subtropical, inedible peel, group 24.

[FR Doc. 2026-01902 Filed 1-29-26; 8:45 am]

BILLING CODE 6560-50-P